DEPARTMENT OF COMMERCE

International Trade Administration

[A-570-900, A-580-855]

Diamond Sawblades and Parts Thereof From the People's Republic of China and the Republic of Korea: Antidumping Duty Orders

AGENCY: Import Administration, International Trade Administration, Department of Commerce.

SUMMARY: On September 30, 2009, the United States Court of International Trade (“CIT”) ordered the Department of Commerce (“the Department”) to issue and publish antidumping duty orders and order the collection of cash deposits on subject merchandise in response to a petition for a writ of mandamus from Petitioners ¹ in the antidumping duty investigation of diamond sawblades and parts thereof (“diamond sawblades”) from the People's Republic of China (“PRC”) and the Republic of Korea (“Korea”). Therefore, effective January 23, 2009, the Department will direct the U.S. Customs and Border Protection (“CBP”) to suspend liquidation and collect cash deposits on diamond sawblades from the PRC and Korea at ad valorem rates listed below.

¹ Diamond Sawblades Manufacturers Coalition (“DSM Coalition”).

DATES: Effective Date: January 23, 2009.

FOR FURTHER INFORMATION CONTACT: Zhulieta Willbrand or Robert Bolling, (202) 482-3147 or (202) 482-3434, respectively (Korea), AD/CVD Operations, Office 4; Alex Villanueva (202) 482-3208 (PRC), AD/CVD Operations, Office 9, Import Administration, International Trade Administration, U.S. Department of Commerce, 14th Street and Constitution Avenue, NW., Washington, DC 20230.

SUPPLEMENTARY INFORMATION:

Background

During the original investigation, the International Trade Commission (“ITC”) published its final determination that an industry in the United States was not materially injured or threatened with material injury by reason of imports of diamond sawblades from the PRC and Korea.² The Petitioners challenged the ITC's final negative determination, and on February 6, 2008, the CIT remanded the determination to the ITC for reconsideration.³ Upon remand, the ITC changed its determination and found that a U.S. industry is threatened with material injury by reason of imports of diamond sawblades from the PRC and Korea.⁴

² See Diamond Sawblades and Parts Thereof From China and Korea, 71 FR 39128 (July 11, 2006) (“ITC Final Determination”).

³ See Diamond Sawblades Mfr's Coalition v. United States, No. 06-247, Slip Op. 2008-18 (CIT February 6, 2008).

⁴ See Diamond Sawblades and Parts Thereof from China and Korea: Investigation Nos. 731-TA-1092 and 1093 (Final) (Remand), USITC Pub. 4007 (May 2008).

The CIT issued a confidential opinion sustaining the ITC's injury determination on remand on January 13, 2009. See DSMC v. US, No. 06-00247, Slip Op. 09-05 (CIT Jan. 13, 2009) (“DSMC”). The ITC informed the Department by letter dated January 22, 2009, that the CIT's January 13, 2009, opinion in DSMC sustains the ITC's threat-of-material-injury determination. Accordingly, on February 10, 2009, the Department published notice of the court's decision that is not “in harmony” with the ITC's Final Determination in the Federal Register.⁵ In the Timken Notice, the Department stated that effective January 23, 2009, the Department suspended liquidation pending the expiration of the period to appeal or pending a final decision of the U.S. Court of Appeals for the Federal Circuit (“CAFC”) if DSMC is appealed. Additionally, in the Timken Notice the Department stated that upon notice from the ITC of no appeal or, if appealed, of a “conclusive” decision by the CAFC affirming DSMC, antidumping duty orders on diamond sawblades from the PRC and Korea will be issued. On March 13, 2009, Ehwa Diamond Industrial Co., Ltd., and Saint-Gobain Abrasives, Inc., appealed the ITC's remand decision in the CAFC. Consequently, the Department did not issue and publish antidumping duty orders on diamond sawblades from the PRC and Korea.

⁵ See Diamond Sawblades and Parts Thereof from the People's Republic of China and the Republic of Korea: Notice of Court Decision Not In Harmony With Final Determination of the Antidumping Duty Investigations, 74 FR 6570 (February 10, 2009) (“Timken Notice”).

DSM Coalition filed a petition for a writ of mandamus compelling the Department to issue antidumping duty orders and require collection of cash deposits in the respective investigations. On September 30, 2009, the CIT ordered the Department to immediately issue and publish antidumping duty orders and collect cash deposits covering imports of diamond sawblades from the PRC and Korea.⁶

⁶ Diamond Sawblades Manufacturers Coalition v. United States, Nos. 06-247, 09-110, Slip Op. 09-107 (Sept. 30, 2009) (“Mandamus Order”).

Scope of the Orders

The products covered by these orders are all finished circular sawblades, whether slotted or not, with a working part that is comprised of a diamond segment or segments, and parts thereof, regardless of specification or size, except as specifically excluded below. Within the scope of these orders are semifinished diamond sawblades, including diamond sawblade cores and diamond sawblade segments. Diamond sawblade cores are circular steel plates, whether or not attached to non-steel plates, with slots. Diamond sawblade cores are manufactured principally, but not exclusively, from alloy steel. A diamond sawblade segment consists of a mixture of diamonds (whether natural or synthetic, and regardless of the quantity of diamonds) and metal powders (including, but not limited to, iron, cobalt, nickel, tungsten carbide) that are formed together into a solid shape (from generally, but not limited to, a heating and pressing process).

Sawblades with diamonds directly attached to the core with a resin or electroplated bond, which thereby do not contain a diamond segment, are not included within the scope of these orders. Diamond sawblades and/or sawblade cores with a thickness of less than 0.025 inches, or with a thickness greater than 1.1 inches, are excluded from the scope of these orders. Circular steel plates that have a cutting edge of non-diamond material, such as external teeth that protrude from the outer diameter of the plate, whether or not finished, are excluded from the scope of these orders. Diamond sawblade cores with a Rockwell C hardness of less than 25 are excluded from the scope of these orders. Diamond sawblades and/or diamond segment(s) with diamonds that predominantly have a mesh size number greater than 240 (such as 250 or 260) are excluded from the scope of these orders. Merchandise subject to these orders is typically imported under heading 8202.39.00.00 of the Harmonized Tariff Schedule of the United States (“HTSUS”). When packaged together as a set for retail sale with an item that is separately classified under headings 8202 to 8205 of the HTSUS, diamond sawblades or parts thereof may be imported under heading 8206.00.00.00 of the HTSUS. The tariff classification is provided for convenience and customs purposes; however, the written description of the scope of these orders is dispositive.

Scope Rulings

During the course of the investigations, the Department issued several scope rulings, all of which were affirmed through the final determinations.⁷ Specifically, in the Final Determinations, the Department ruled that concave and convex cores, and finished diamond sawblades produced from such cores, are within the scope of the investigations.⁸ The Department also ruled that metal-bonded, diamond 1A1R grinding wheels and granite contour diamond sawblades are within the scope of the investigations. Id. Moreover, the Department confirmed that the Rockwell C hardness threshold contained in the scope of the investigation applies only to cores, and not to finished diamond sawblades. Id. Lastly, the term “sawblade” is defined as those products that meet the 1A1R specification, where the segment thickness is larger than the thickness of the core.⁹

⁷ See Notice of Final Determination of Sales at Less Than Fair Value and Final Determination of Critical Circumstances: Diamond Sawblades and Parts Thereof from the Republic of Korea, 71 FR 29310 (May 22, 2006), and Final Determination of Sales at Less Than Fair Value and Final Partial Affirmative Determination of Critical Circumstances: Diamond Sawblades and Parts Thereof from the People's Republic of China, 71 FR 29303 (May 22, 2006), (collectively, “Final Determinations”).

⁸ See Final Determinations and Memorandum from Stephen J. Claeys, Deputy Assistant Secretary for Import Administration, to David M. Spooner, Assistant Secretary for Import Administration, “Issues and Decision Memorandum for the Final Determination”, dated May 15, 2006 (“Issues and Decision Memorandum”) at Comment 2.

⁹ See Petitioner's May 3, 2005, submission at Exhibit I-10 (“The segment or rim is slightly wider than the steel blade to allow the attacking edge to penetrate the material without the steel blade rubbing against it”); Petitioner's May 10, 2005, submission, at 14 (“the segment or rim is slightly wider than the steel blade to allow the attacking edge to penetrate the material without the steel blade rubbing against it”); Transcript to April 25, 2006, Public Hearing in the companion investigation of diamond sawblades from the PRC (statement by Petitioner that the “international codes for * * * sawblades are 1A1R, 1A1RS, and 1A1RSS, where the R means recessed. And that refers to the core, {where} the core is thinner than the segments”); and ITC Investigation No. 731-TA-1093, August 2005 (“The segment, or rim, is slightly wider than the steel blade to permit the leading edge to penetrate the material without the steel blade rubbing against it and to discourage blade binding”).

Effective Date of Orders

As discussed above, the Department ordered suspension of liquidation of diamond sawblades from the PRC and Korea on January 23, 2009, and collection of zero cash deposits. The CIT's order of September 30, 2009, did not address the effective date of any potential antidumping duty orders on the PRC and Korea. Therefore, because suspension of liquidation is already in effect for all entries of diamond sawblades from the PRC and Korea entered, or withdrawn from the warehouse, for consumption on or after January 23, 2009, the effective date of these antidumping duty orders on the PRC and Korea is January 23, 2009. Consequently, the Department will direct U.S. Customs and Border Protection to collect a cash deposit on all unliquidated entries of diamond sawblades as of January 23, 2009, from the PRC and Korea at the rates listed below.

Diamond Sawblades and Parts Thereof From Korea
Exporter | Producer | Weighted-average margin (percent)
Ehwa Diamond Industrial Co., Ltd. | Ehwa Diamond Industrial Co., Ltd. | 12.76
Shinhan Diamond Industrial Co. | Shinhan Diamond Industrial Co. | 26.55
Hyosung Diamond Industrial Co., Ltd. | Hyosung Diamond Industrial Co., Ltd. | 6.43
All Others |  | 16.39

For the PRC the cash deposit rate for all exporter-producer combinations not listed below will be equal to the estimated weighted-average antidumping duty margin applicable to the combination. The “PRC-wide” rate applies to all exporters of subject merchandise not specifically listed. The weighted-average antidumping duty margins are as follows:

Diamond Sawblades From the PRC
Exporter | Producer | Weighted- average margin percent
Advanced Technology & Materials Co., Ltd | Advanced Technology & Materials Co., Ltd | ¹⁰ 2.82
Bosun Tools Group Co., Ltd | Bosun Tools Group Co., Ltd | 35.51
Danyang Huachang Diamond Tools Manufacturing Co., Ltd | Danyang Huachang Diamond Tools Manufacturing Co., Ltd | 21.43
Danyang NYCL Tools Manufacturing Co., Ltd | Danyang NYCL Tools Manufacturing Co., Ltd | 21.43
Danyang Youhe Tool Manufacturer Co., Ltd | Danyang Youhe Tool Manufacturer Co., Ltd | 21.43
Fujian Quanzhou Wanlong Stone Co., Ltd | Fujian Quanzhou Wanlong Stone Co., Ltd | 21.43
Guilin Tebon Superhard Material Co., Ltd | Guilin Tebon Superhard Material Co., Ltd | 21.43
Hebei Jikai Industrial Group Co., Ltd | Hebei Jikai Industrial Group Co., Ltd | 48.50
Huzhou Gu's Import & Export Co., Ltd | Danyang Aurui Hardware Products Co., Ltd | 21.43
Huzhou Gu's Import & Export Co., Ltd | Danyang Huachang Diamond Tools Manufacturing Co., Ltd | 21.43
Jiangsu Fengtai Diamond Tool Manufacture Co., Ltd | Jiangsu Fengtai Diamond Tool Manufacture Co., Ltd | 21.43
Jiangyin Likn Industry Co., Ltd | Jiangsu Fengtai Diamond Tool Manufacture Co., Ltd | 21.43
Jiangyin Likn Industry Co., Ltd | Wuhan Wanbang Laser Diamond Tools Co | 21.43
Qingdao Shinhan Diamond Industrial Co., Ltd | Qingdao Shinhan Diamond Industrial Co., Ltd | 21.43
Quanzhou Zhongzhi Diamond Tool Co., Ltd | Quanzhou Zhongzhi Diamond Tool Co., Ltd | 21.43
Rizhao Hein Saw Co., Ltd | Rizhao Hein Saw Co., Ltd | 21.43
Shanghai Deda Industry & Trading Co., Ltd | Hua Da Superabrasive Tools Technology Co., Ltd | 21.43
Shanghai Robtol Tool Manufacturing Co., Ltd | Shanghai Robtol Tool Manufacturing Co., Ltd | 21.43
Shijiazhuang Global New Century Tools Co., Ltd | Shijiazhuang Global New Century Tools Co., Ltd | 21.43
Sichuan Huili Tools Co | Chengdu Huifeng Diamond Tools Co., Ltd | 21.43
Sichuan Huili Tools Co | Sichuan Huili Tools Co | 21.43
Weihai Xiangguang Mechanical Industrial Co., Ltd | Weihai Xiangguang Mechanical Industrial Co., Ltd | 21.43
Wuhan Wanbang Laser Diamond Tools Co | Wuhan Wanbang Laser Diamond Tools Co | 21.43
Xiamen ZL Diamond Tools Co., Ltd | Xiamen ZL Diamond Tools Co., Ltd | 21.43
Zhejiang Tea Import & Export Co., Ltd | Danyang Dida Diamond Tools Manufacturing Co., Ltd | 21.43
Zhejiang Tea Import & Export Co., Ltd | Danyang Tsunda Diamond Tools Co., Ltd | 21.43
Zhejiang Tea Import & Export Co., Ltd | Wuxi Lianhua Superhard Material Tools Co., Ltd | 21.43
Zhejiang Wanli Tools Group Co., Ltd | Zhejiang Wanli Super-hard Materials Co., Ltd | 21.43
Zhenjiang Inter-China Import & Export Co., Ltd | Danyang Weiwang Tools Manufacturing Co., Ltd | 21.43
PRC-Wide Rate |  | 164.09

This notice constitutes the antidumping duty orders with respect to diamond sawblades from the PRC and Korea pursuant to the CIT's Mandamus Order. Interested parties may contact the Department's Central Records Unit, Room 1117 of the main Commerce building, for copies of an updated list of antidumping duty orders currently in effect.

¹⁰ Including Beijing Gang Yan Diamond Products Company as an exporter when merchandise was also produced by Beijing Gang Yan Diamond Products Company, and Yichang HXF Circular Saw Industrial Co., Ltd as an exporter when merchandise was also produced by Yichang HXF Circular Saw Industrial Co., Ltd

Dated: October 30, 2009.
Kelly Parkhill,
Acting Director, Office of Policy for Import Administration.

[FR Doc. E9-26680 Filed 11-3-09; 8:45 am]

BILLING CODE 3510-DS-P